DEPARTMENT OF COMMERCE

International Trade Administration

[A-570-979]

Crystalline Silicon Photovoltaic Cells, Whether or Not Assembled Into Modules, From the People's Republic of China: Final Results of Antidumping Duty Administrative Review and Final Determination of No Shipments; 2012-2013

AGENCY: Enforcement and Compliance, International Trade Administration, Department of Commerce.

SUMMARY: On January 8, 2015, the Department of Commerce (the “Department”) published its Preliminary Results in the 2012-2013 administrative review of the antidumping duty order on crystalline silicon photovoltaic cells, whether or not assembled into modules (“solar cells”) from the People's Republic of China (“PRC”).¹ The period of review (“POR”) is May 25, 2012, through November 30, 2013. This administrative review covers two mandatory respondents, Yingli Energy (China) Company Limited and Wuxi Suntech Power Co., Ltd. (“Wuxi Suntech”), which was found to be ineligible for a separate rate in the Preliminary Results. Based on our analysis of the comments received, we made certain changes to our margin calculations for Yingli Energy (China) Company Limited. Additionally, we now find that Wuxi Suntech is eligible for a separate rate, and have calculated a dumping margin for Wuxi Suntech. The final dumping margins for this review are listed in the “Final Results” section below.

¹ See Crystalline Silicon Photovoltaic Cells, Whether or Not Assembled Into Modules, From the People's Republic of China: Preliminary Results of Antidumping Duty Administrative Review and Preliminary Determination of No Shipments; 2012-2013, 80 FR 1021 (January 8, 2015) (“Preliminary Results”), and Memorandum to Paul Piquado, Assistant Secretary for Enforcement and Compliance, from Gary Taverman, Associate Deputy Assistant Secretary for Antidumping and Countervailing Operations, “Decision Memorandum for the Preliminary Results of the 2012-2013 Antidumping Duty Administrative Review of Crystalline Silicon Photovoltaic Cells, Whether or Not Assembled into Modules, from the People's Republic of China” (“Preliminary Decision Memorandum”), dated December 31, 2014.

DATES: Effective date: July 14, 2015.

FOR FURTHER INFORMATION CONTACT: Brandon Farlander or Drew Jackson AD/CVD Operations, Office IV, Enforcement and Compliance, International Trade Administration, U.S. Department of Commerce, 14th Street and Constitution Avenue NW., Washington, DC 20230; telephone: (202) 482-0182 or (202) 482-4406, respectively.

SUPPLEMENTARY INFORMATION:

Background

On January 8, 2015, the Department published its Preliminary Results in this review. On January 22, 2015, Petitioner ² submitted comments regarding the preliminary margin calculation of the companies that are considered as the Yingli Single Entity in this final determination including Yingli Energy (China) Company Limited.³

² Petitioner in this proceeding is SolarWorld America, Inc.

³ See Letter to the Department from Petitioner, “Certain Crystalline Silicon Photovoltaic Cells, Whether or Not Assembled into Modules, from the People's Republic of China: Comments on Ministerial Errors in the Preliminary Results,” dated January 22, 2015. The Department determined, pursuant to 19 CFR 351.401(f), that the following affiliated companies should be treated as a single entity: Yingli Energy (China) Company Limited ; Baoding Tianwei Yingli New Energy Resources Co., Ltd. (“Tianwei Yingli”); Tianjin Yingli New Energy Resources Co., Ltd. (“Tianjin Yingli”); Hengshui Yingli New Energy Resources Co., Ltd. (“Hengshui Yingli”); Lixian Yingli New Energy Resources Co., Ltd. (“Lixian Yingli”); Baoding Jiasheng Photovoltaic Technology Co., Ltd. (“Jiasheng”); Beijing Tianneng Yingli New Energy Resources Co., Ltd. (“Beijing Tianneng”); Hainan Yingli New Energy Resources Co., Ltd. (“Hainan Yingli”) (collectively, the “Yingli Single Entity”). See Memorandum to Abdelali Elouaradia, Director, AD/CVD Operations, Office IV, through Howard Smith, AD/CVD Operations, Office IV, “Crystalline Silicon Photovoltaic Cells, Whether or Not Assembled Into Modules, from the People's Republic of China: Affiliation and Single Entity Status,” dated December 31, 2014.

On January 9, 2015, Wuxi Suntech submitted a hearing request.⁴ On February 9, 2015 Shanghai JA Solar Technology Co., Ltd., JA Solar Technology Yangzhou Co., Ltd. and JingAo Solar Co., Ltd. submitted a request to participate in any hearing held by the Department in this review.⁵ Petitioner submitted an untimely hearing request on February 9, 2015, which was rejected by the Department in accordance with 19 CFR 351.302(d).⁶ On February 25, 2015, Petitioner submitted an untimely request for additional time to submit a hearing request.⁷ The Department did not grant Petitioner's request.⁸ On May 18, 2015, Wuxi Suntech withdrew its request for a hearing.⁹ On June 1, 2015, the Department notified interested parties that it would not hold a hearing in this administrative review.¹⁰

⁴ See Letter to the Department from Wuxi Suntech, “Crystalline Silicon Photovoltaic Cells from the People's Republic of China: Request for Hearing- Wuxi Suntech Power Co., Ltd.,” dated January 9, 2015.

⁵ See Letter to the Department from Shanghai JA Solar Technology Co., Ltd., JA Solar Technology Yangzhou Co., Ltd. and JingAo Solar Co., Ltd., “Crystalline Silicon Photovoltaic Cells, Whether or Not Assembled into Modules, from the People's Republic of China: Hearing,” dated January 9, 2015.

⁶ See Letter to the File through Howard Smith, Program Manager, AD/CVD Operations, Office IV “Rejection and Removal from the Record of Untimely Filed Hearing Request,” dated March 3, 2015.

⁷ See Letter to the Department from Petitioner, “Crystalline Silicon Photovoltaic Cells, Whether Or Not Assembled Into Modules, from the People's Republic of China: Request for Opportunity to Submit Hearing Requests,” dated February 9, 2015.

⁸ See Letter to the Petitioner from the Department, “Antidumping Duty Administrative Review of Crystalline Silicon Photovoltaic Cells, Whether or Not Assembled into Modules, from the People's Republic of China: Rejection and Removal from the Record of Untimely Filed Hearing Request,” dated March 3, 2015.

⁹ See Letter to the Department from Wuxi Suntech, “Crystalline Silicon Photovoltaic Cells, Whether Or Not Assembled into Modules, from the People's Republic of China: Withdraw of Request for Hearing—Wuxi Suntech Power Co., Ltd.,” dated May 18, 2015.

¹⁰ See Memorandum to All Interested Parties, through Howard Smith, AD/CVD Operations, Office IV, Administrative Review of the Antidumping Duty Order on Crystalline Silicon Photovoltaic Cells, Whether or Not Assembled Into Modules, from the People's Republic of China; Withdrawal of Hearing Request, dated June 1, 2015.

Between January 2015 and March 2015, the Department issued supplemental questionnaires regarding separate rates to, and received timely responses from, the Wuxi Suntech Single Entity.¹¹ In March 2015, the Department conducted verification of the Wuxi Suntech Single Entity's separate rates information.

¹¹ In the Preliminary Results, the Department preliminarily found that the Wuxi Suntech Single Entity included the following companies: Wuxi Suntech; Luoyang Suntech Power Co., Ltd. (“Luoyang Suntech”); Suntech Power Co., Ltd. (“Shanghai Suntech”); and Wuxi Sunshine Power Co. Ltd (“Wuxi Sunshine”). See Memorandum to Abdelali Elouaradia, Director, AD/CVD Operations, Office IV, through Howard Smith, Program Manager, AD/CVD Operations. Office IV, “Affiliation and Single Entity Status of Wuxi Suntech Power Co., Ltd.; Luoyang Suntech Power Co., Ltd.; Suntech Power Co., Ltd.; and Wuxi Sunshine Power Co., Ltd.,” dated December 31, 2014.

On March 23, 2015, the following interested parties submitted case briefs: (1) Petitioner; (2) Yingli Energy (China) Company Limited;¹² (3) Goal Zero, LLC; (4) LDK Solar Hi-Tech (Nanchang) Co. Ltd.; (5) Jiangsu Sunlink PV Technology Co., Ltd.; (6) Years Solar Co. Ltd.; (7) CSG PVTech Co., Ltd.; and (8) Shanghai JA Solar Technology Co. Ltd, JA Solar Technology Yangzhou Co., Ltd. and JingAo Solar Co., Ltd. On March 25, 2015, Yingli Energy (China) Company Limited alleged that Petitioner's March 23, 2015 case brief contained untimely filed new factual information,¹³ and on March 27, 2015, Petitioner rebutted these allegations.¹⁴ After considering Yingli Energy (China) Company Limited's allegation, the Department did not require Petitioner to redact its case brief. On March 30, 2015, the Department notified Yingli Energy (China) Company Limited that its March 23, 2015 case brief contained untimely filed new factual information. The Department subsequently rejected the case brief in accordance with 19 CFR 351.302(d)(1)(i) and 19 CFR 351.104(a)(2)(ii)(A) because it contained untimely filed new factual information but provided Yingli Energy (China) Company Limited the opportunity to resubmit its case brief with the new factual information redacted.¹⁵ On March 31, 2015, Yingli Energy (China) Company Limited submitted comments on the new factual information allegation, and resubmitted its rejected case brief.¹⁶ On March 30, 2015, the following interested parties submitted rebuttal briefs: (1) Petitioner; (2) Yingli Energy (China) Company Limited; and, (3) Wuxi Suntech. These case briefs and rebuttal briefs did not include comments regarding the separate-rate status of the Wuxi Suntech Single Entity, which was preliminarily found to include the following companies: (1) Wuxi Suntech, (2) Luoyang Suntech; (3) Shanghai Suntech; and (4) Wuxi Sunshine.¹⁷ Subsequently, on May 8, 2015, and May 11, 2015, Wuxi Suntech and Petitioner, respectively, submitted case briefs regarding the separate-rate status of the Wuxi Suntech Single Entity. On May 13, 2015, the following parties submitted rebuttal comments related to the separate-rate status of the Wuxi Suntech Single Entity: (1) Petitioner; (2) Wuxi Suntech; (3) Shanghai BYD Co., Ltd. and Shangluo BYD Industrial Co., Ltd.; and (4) Changzhou Trina Solar Energy Co., Ltd.

¹² Yingli Energy (China) Company Limited's case and rebuttal briefs were submitted on behalf of Yingli Green Energy Holding Company Limited and Yingli Green Energy Americas, Inc., and their affiliates, including Yingli Energy (China) Co., Ltd. and Baoding Tianwei Yingli New Energy Resources Co., Ltd.

¹³ See Letter to the Department from Yingli Energy (China) Company Limited, “Crystalline Silicon Photovoltaic Cells, Whether or Not Assembled into Modules from the People's Republic of China: Request that the Department Reject SolarWorld's Case Brief,” dated May, 2015.

¹⁴ See Letter to the Department from Petitioner, “Crystalline Silicon Photovoltaic Cells, Whether or Not Assembled into Modules, from the People's Republic of China: Response to Yingli's Request to Reject SolarWorld's Case Brief,” dated May 27, 2015.

¹⁵ See Memorandum to The File through Howard Smith, Program Manager, AD/CVD Operations, Office IV, “Rejection from the Record of Untimely Filed New Factual Information,” dated April 2, 2015.

¹⁶ See Letter from Yingli Energy (China) Company Limited to the Department, “Crystalline Silicon Photovoltaic Cells, Whether or Not Assembled Into Modules from the People's Republic of China: Resubmission of Yingli's Case Brief,” dated March 31, 2015.

¹⁷ See Memorandum to The File through Jeffrey Pedersen, Acting Program Manager, AD/CVD Operations, Office IV, “Administrative Review of the Antidumping Duty Order on Crystalline Silicon Photovoltaic Cells, Whether or Not Assembled Into Modules, from the People's Republic of China; Briefing Schedule,” dated February 27, 2015 (establishing a deadline for case briefs and rebuttal briefs concerning all issues except the separate-rate status of the Wuxi Suntech Single Entity).

On April 28, 2015, the Department extended the deadline for issuing these final results of review by 60 days, until July 7, 2015.¹⁸

¹⁸ See Memorandum to Edward Yang, Senior Director, AD/CVD Operations, Office VII, through Howard Smith, Acting Director, AD/CVD Operations, Office IV, “Crystalline Silicon Photovoltaic Cells, Whether or Not Assembled into Modules, from the People's Republic of China: Extension of Deadline for Final Results of Antidumping Duty Administrative Review,” dated April 28, 2015.

Scope of the Order

The merchandise covered by the order is crystalline silicon photovoltaic cells, and modules, laminates, and panels, consisting of crystalline silicon photovoltaic cells, whether or not partially or fully assembled into other products, including, but not limited to, modules, laminates, panels and building integrated materials.¹⁹ Merchandise covered by this review is classifiable under subheading 8501.61.0000, 8507.20.80, 8541.40.6020, 8541.40.6030, and 8501.31.8000 of the Harmonized Tariff Schedule of the United States (“HTSUS”). Although the HTSUS subheadings are provided for convenience and customs purposes, our written description of the scope of the order is dispositive.

¹⁹ For a complete description of the scope of the order, see Memorandum from Edward Yang, Senior Director, AD/CVD Operations, Office VII, to Paul Piquado, Assistant Secretary for Enforcement and Compliance, “Decision Memorandum for the Final Results of the 2012-2013 Antidumping Duty Administrative Review of Crystalline Silicon Photovoltaic Cells, Whether or Not Assembled into Modules, from the People's Republic of China,” (“Issues and Decision Memorandum”), dated concurrently with this notice.

Analysis of Comments Received

All issues raised in the case and rebuttal briefs filed by parties in this review are addressed in the Issues and Decision Memorandum,²⁰ which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (“ACCESS”). ACCESS is available to registered users at http://access.trade.gov and in the Central Records Unit, Room B8024 of the main Department of Commerce building. In addition, a complete version of the Issues and Decision Memorandum can be accessed directly on the Internet at http://enforcement.trade.gov/frn/. The paper copy and electronic version of the Issues and Decision Memorandum are identical in content.

²⁰ See Issues and Decision Memorandum.

Changes Since the Preliminary Results

Changes Specific to Wuxi Suntech

• Found that Wuxi Suntech and Luoyang Suntech should be treated as a single entity (the “Wuxi Luoyang Single Entity.”

• Found that the Wuxi Luoyang Single Entity has established its eligibility for a separate rate.

• Calculated a dumping margin for the Wuxi Luoyang Single Entity.

Changes Specific to Yingli Energy (China) Company Limited

• Revised surrogate value calculations for certain direct materials, labor, financial ratios, and movement expenses.

• Revised certain material offsets.

• Revised the indirect selling expense ratio.

• Corrected ministerial errors.

• Revised the partial AFA calculation.

Other Changes

• Corrections to list of separate rate companies and no shipment companies.

Final Determination of No Shipments

In the Preliminary Results, we found that 23 companies subject to this administrative review did not have reviewable transactions during the POR.²¹ We did not receive any comments concerning our finding of no shipments by these 23 companies. For these final results, the Department continues to find that 23 companies that claimed no shipments during the POR did not have any reviewable transactions of subject merchandise during the POR.²²

²¹ See Preliminary Results and accompanying Preliminary Decision Memorandum at 5-6. We also preliminarily treated two companies which reported making no shipments during the POR, Luoyang Suntech and Shanghai Suntech, as part of the Wuxi Suntech Single Entity.

²² Those 23 companies with no shipments during the POR are: (1) DelSolar Co., Ltd.; (2) Dongfang Electric (Yixing) MAGI Solar Power Technology Co., Ltd.; (3) ET Solar Energy Limited; (4) Hengdian Group DMEGC Magnetics Co., Ltd.; (5) Himin Clean Energy Holdings Co., Ltd.; (6) Jiangsu Green Power PV Co., Ltd.; (7) Jiangsu Jiasheng Photovoltaic Technology Co., Ltd.; (8) JinkoSolar International Limited; (9) Konca Solar Cell Co., Ltd.; (10) Kuttler Automation Systems (Suzhou) Co., Ltd.; (11) Motech (Suzhou) Renewable Energy Co., Ltd.; (12) Ningbo Ulica Solar Science & Technology Co., Ltd.; (13) Perlight Solar Co., Ltd.; (14) Shenzhen Suntech Power Co., Ltd.; (15) ShunFeng PV; (16) Sumec Hardware & Tools Co., Ltd.; (17) Tianwei New Energy (Chengdu) PV Module Co., Ltd.; (18) Upsolar Group Co., Ltd.; (19) Wanxiang Import & Export Co., Ltd.; (20) Yangzhou Rietech Renewal Energy Co., Ltd.; (21) Yangzhou Suntech Power Co., Ltd.; (22) Zhejiang Jiutai New Energy Co., Ltd.; (23) Zhenjiang Rietech New Energy Science & Technology Co., Ltd. As noted above, the Department has treated Luoyang Suntech, which reported making no shipments during the POR, as part of the Wuxi Luoyang Single Entity.

In the Preliminary Results, we found that two companies, CSG PVTech Co., Ltd. and Jiangsu Sunlink PV Technology Co., Ltd., that claimed no exports, sales or entries of subject merchandise during the POR did, in fact, sell subject merchandise to the United States during the POR.²³ Interested parties commented on the Department's preliminary finding with respect to these two companies.²⁴ After considering these comments, the Department continues to find that these companies sold or made entries of subject merchandise to the United States during the POR. Neither of these companies filed a separate rate application or certification and thus they have not established their entitlement to a separate rate in this review.

²³ See Preliminary Results and accompanying Preliminary Decision Memorandum at 5-6.

²⁴ See Issues and Decision Memorandum at comment entitled, “Treatment of Jiangsu Sunlink PV Technology Co., Ltd.” and comment entitled, “Treatment of CSG PVTech Co., Ltd.”

Affiliation and Single Entity Determination

For these final results of review, the Department finds, pursuant to 19 CFR 351.401(f), that Wuxi Suntech and Luoyang Suntech comprise a single entity (i.e., the Wuxi Luoyang Single Entity), which does not include Shanghai Suntech or Wuxi Sunshine.²⁵

²⁵ See Issues and Decision Memorandum at the comment entitled, “The Department's Separate Rates Practice,” and the comment entitled, “Separate Rate Status of the Wuxi Suntech Collapsed Entity.” See also Memorandum to Robert Bolling, Acting Director, AD/CVD Operations, Office IV, through Howard Smith, Program Manager, AD/CVD Operations, IV, “Affiliation and Single Entity Status of Wuxi Suntech Power Co., Ltd. and Luoyang Suntech Power Co., Ltd., Final Results of Review,” dated concurrently with this notice.

Additionally, the Department continues to find, pursuant to 19 CFR 351.401(f), that the following affiliated companies should be treated as a single entity: (1) Yingli Energy (China) Company Limited; (2) Baoding Tianwei Yingli; (3) Tianjin Yingli; (4) Hengshui Yingli; (5) Lixian Yingli; (6) Jiasheng; (7) Beijing Tianneng; and (8) Hainan Yingli.²⁶

²⁶ See Memorandum to Abdelali Elouaradia, Director, AD/CVD Operations, Office IV, through Howard Smith, Program Manager, AD/CVD Operations, Office IV, “Crystalline Silicon Photovoltaic Cells, Whether or Not Assembled Into Modules, from the People's Republic of China: Affiliation and Single Entity Status,” dated December 31, 2014.

Verification

As provided in section 782(i) of the Tariff Act of 1930, as amended (the “Act”), the Department verified separate rate information provided by the Wuxi Suntech Single Entity.²⁷ The Department conducted the verification using standard verification procedures including the examination of relevant records and the selection and review of original documentation containing relevant information. The results of the verification are outlined in the public version of the verification reports. The verification reports are on file electronically via ACCESS.

²⁷ See Memorandum to the File through Howard Smith, Program Manager, AD/CVD Operations, Office IV, Verification of the Separate Rates Questionnaire Responses of Wuxi Suntech Power Co., Ltd., dated April 28, 2015; Memorandum to the File through Howard Smith, Program Manager, AD/CVD Operations, Office IV, Verification of the Separate Rates Questionnaire Responses of Suntech Power Co., Ltd., dated April 28, 2015; and Memorandum to the File through Howard Smith, Program Manager, AD/CVD Operations, Office IV, Verification of the Separate Rates Questionnaire Responses of Wuxi Sunshine Power Co., Ltd., dated April 28, 2015.

Use of Partial Facts Available and Adverse Facts Available

Section 776(a) of the Act provides that the Department shall apply facts available (“FA”) if (1) necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Section 776(b) of the Act further provides that the Department may use adverse facts available (“AFA”) when a party has failed to cooperate by not acting to the best of its ability to comply with a request for information.

Pursuant to sections 776(a) and (b) of the Act, in the Preliminary Determination, the Department applied partial adverse facts available (“AFA”) to a portion of Yingli Energy (China) Company Limited's sales. After considering comments submitted by interested parties, the Department continues to find that the application of partial AFA is warranted, however, the Department has revised the methodology used to apply partial AFA to a portion of Yingli Energy (China) Company Limited's sales for these final results of review.²⁸ Further, the Department continues to find that the application of FA to account for Yingli (China) Company Limited's unreported factors of production (“FOP”) data is warranted.²⁹

²⁸ See Issues and Decision Memorandum at Comment 9.

²⁹ See Preliminary Determination.

Wuxi Suntech did not report certain FOP data from certain suppliers or tollers. Based on the specific facts on the record of this review and in accordance with section 776(a)(1) of the Act, the Department is applying FA with respect to these unreported FOP data.³⁰ Due to the proprietary nature of the factual information concerning these FOP data, we explain the decision to use FA with respect to these FOP data in a separate business proprietary memorandum.³¹ As FA, we used FOP data that Wuxi Suntech was able to obtain from certain tollers or its own FOP information.

³⁰ See Issues and Decision Memorandum at Comment 9.

³¹ See Memorandum through Howard Smith, Program Manager, AD/CVD Operations, Office IV, to Robert Bolling, Acting Director, AD/CVD Operations, Office IV, “Crystalline Silicon Photovoltaic Cells, Whether or Not Assembled Into Modules, from the People's Republic of China: Unreported Factors of Production,” dated concurrently with this notice.

Separate Rates

In the Preliminary Results, the Department listed 20 companies not selected as mandatory respondents as having demonstrated their eligibility for separate rates.³² Since the Preliminary Results, the Department has not received any comments that would warrant a review of our preliminary results regarding 19 of these companies. Therefore we continue to find that these companies are eligible for a separate rate.³³ Regarding LDK Solar Hi-tech (Nanchang) Co., Ltd., in the Preliminary Results, the Department inadvertently listed this company as a company that was granted a separate rate. Because the review of LDK Solar Hi-tech (Nanchang) Co., Ltd. was rescinded in July 2014, that company is not subject to this review and thus no determination was made in this review with respect to its separate rate status.³⁴

³² See Preliminary Decision Memorandum at 13.

³³ The Department finds that the following 19 non-selected companies demonstrated their eligibility for separate rates: (1) Canadian Solar International Limited; (2) Canadian Solar Manufacturing (Changshu) Inc.; (3) Canadian Solar Manufacturing (Luoyang) Inc.; (4) Changzhou Trina Solar Energy Co., Ltd./Trina Solar (Changzhou) Science and Technology Co., Ltd.; (5) Chint Solar (Zhejiang) Co., Ltd.; (6) De-Tech Trading Limited HK; (7) Eoplly New Energy Technology Co., Ltd.; (8) Hangzhou Zhejiang University Sunny Energy Science and Technology Co., Ltd.; (9) Jinko Solar Import and Export Co., Ltd.; (10) Ningbo Qixin Solar Electrical Appliance Co., Ltd.; (11) Renesola Jiangsu Ltd.; (12) Shanghai BYD Co., Ltd.; (13) Shenzhen Topray Solar Co. Ltd.; (14) Sopray Energy Co., Ltd.; (15) Star Power International Limited; (16) Sun Earth Solar Power Co., Ltd.; (17) Yingli Green Energy Holding Company Limited; (18) Yingli Green Energy International Trading Company Limited; and (19) Zhejiang Sunflower Light Energy Science & Technology Limited Liability Company.

³⁴ See Crystalline Silicon Photovoltaic Cells, Whether or Not Assembled Into Modules From the People's Republic of China: Amended Partial Rescission of Antidumping Duty Administrative Review, 79 FR 43713, 43714 (July 28, 2014). For additional discussion, see Issues and Decision Memorandum at Comment 8.

PRC-Wide Entity

In the Preliminary Results, the Department preliminarily determined to treat 21 companies subject to this review as part of the PRC-wide entity because they did not establish their eligibility to receive a separate rate.³⁵ Interested parties commented on the Department's preliminary decision to treat the Wuxi Suntech Single Entity, ERA Solar Co., Ltd., Jiangsu Sunlink PV Technology Co., Ltd., CSG PVTech Co., Ltd., and Leye Photovoltaic Co., Ltd. as part of the PRC-wide entity.³⁶ In the Preliminary Results, the Department collapsed Wuxi Suntech, Luoyang Suntech, Shanghai Suntech, and Wuxi Sunshine into a single entity, the Wuxi Suntech Single Entity, and did not grant this single entity a separate rate. In these final results we are only collapsing Wuxi Suntech and Luoyang Suntech. Based on record information, we find the collapsed entity comprising Wuxi Suntech and Luoyang Suntech has established its entitlement to a separate rate because it is wholly foreign owned.³⁷ With respect to the other two companies that we preliminarily collapsed, but are no longer collapsing, with Wuxi Suntech, Shanghai Suntech reported that it made no shipments during the POR,³⁸ and the Department, based on its examination of record evidence, finds that this company did not have any reviewable transactions of subject merchandise during the POR.³⁹ Because Shanghai Suntech did not have any reviewable transactions during the POR, it does not qualify to be granted separate rates status.⁴⁰ Additionally, all parties withdrew their requests to review Wuxi Sunshine and thus it is not subject to this administrative review.⁴¹ The Department continues to find that the remaining companies preliminarily found not to have established their eligibility for a separate rate to be part of the PRC-wide entity.⁴² In addition, the Department finds that LDK Hi-Tech (Nanchang Co., Ltd., which did not provide the Department with information regarding its eligibility for separate rate status, is also a part of the PRC-wide entity.⁴³ Further, the Department finds that Leye Photovoltaic Co., Ltd. is not subject to this administrative review, and, therefore, retains its combination rate, i.e., separate rate for merchandise produced and exported by Leye Photovoltaic Co., Ltd., which it received in the underlying investigation.⁴⁴

³⁵ See Preliminary Decision Memorandum at 15.

³⁶ See Issues and Decision Memorandum.

³⁷ Id.

³⁸ See Shanghai Suntech's February 26, 2014 submission to the Department.

³⁹ See Shanghai Suntech's October 21, 2014 submission to the Department.

⁴⁰ Shanghai Suntech received its separate rate as a company that belonged to the Wuxi Suntech Single Entity. Because we find that Shanghai Suntech is no longer part of the Wuxi Suntech Single Entity and is subject to review, we have considered whether it qualifies to be granted a separate-rate in this review.

⁴¹ In the investigation, Wuxi Sunshine received its separate rate as a company that belonged to the Wuxi Suntech Single Entity. Because we find that Wuxi Sunshine is no longer part of the Wuxi Suntech Single Entity, Wuxi Sunshine is not entitled to the separate-rate rate status previously granted to that Single Entity. Accordingly, it is part of the PRC-Wide Entity for cash deposit purposes.

⁴² See infra n. 49 for a list of companies that the Department has determined should be treated as part of the PRC-wide entity.

⁴³ See Issues and Decision Memorandum at Comment 8.

⁴⁴ Id. at Comment 7.

Rate for Separate-Rate Companies Not Selected as Mandatory Respondents

The statute and the Department's regulations do not address the establishment of a rate to be applied to individual respondents not selected for examination when the Department limits its examination in an administrative review pursuant to section 777A(c)(2)(B) of the Act. Generally, the Department looks to section 735(c)(5) of the Act, which provides instructions for calculating the all-others rate in an investigation, for guidance when calculating the rate for respondents which we did not individually examine in an administrative review. Section 735(c)(5)(A) of the Act instructs the Department to avoid calculating an all-others rate using rates which are zero, de minimis or based entirely on facts available. Accordingly, the Department's usual practice has been to average the weighted-average dumping margins for the selected companies, excluding rates that are zero, de minimis, or based entirely on facts available.⁴⁵ Accordingly, the Department assigned to the companies that it did not individually examine, but which demonstrated their eligibility for a separate rate, the weighted-average dumping margins calculated for the two mandatory respondents.⁴⁶

⁴⁵ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

⁴⁶ See Memorandum to the File, through Howard Smith, Program Manager, AD/CVD Operations, Office IV, “Calculation of the Final Margin for Separate Rate Recipients,” dated concurrently with this notice.

Final Results

We determine that the following weighted-average dumping margins exist for the POR:

Exporter | Weighted-average dumping margin (percent)
Yingli Single Entity: Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd.⁴⁷ | 0.79
Wuxi Suntech Power Co., Ltd./Luoyang Suntech Power Co., Ltd | 33.08
Canadian Solar International Limited | 9.67
Canadian Solar Manufacturing (Changshu) Inc | 9.67
Canadian Solar Manufacturing (Luoyang) Inc | 9.67
Changzhou Trina Solar Energy Co., Ltd./Trina Solar (Changzhou) Science and Technology Co., Ltd.⁴⁸ | 9.67
Chint Solar (Zhejiang) Co., Ltd | 9.67
De-Tech Trading Limited HK | 9.67
Eoplly New Energy Technology Co., Ltd | 9.67
Hangzhou Zhejiang University Sunny Energy Science and Technology Co., Ltd | 9.67
Jinko Solar Import and Export Co., Ltd | 9.67
Ningbo Qixin Solar Electrical Appliance Co., Ltd | 9.67
Renesola Jiangsu Ltd | 9.67
Shanghai BYD Co., Ltd | 9.67
Shenzhen Topray Solar Co. Ltd | 9.67
Sopray Energy Co., Ltd | 9.67
Star Power International Limited | 9.67
Sun Earth Solar Power Co., Ltd | 9.67
Yingli Green Energy Holding Company Limited | 9.67
Yingli Green Energy International Trading Company Limited | 9.67
Zhejiang Sunflower Light Energy Science & Technology Limited Liability Company | 9.67
PRC-Wide Entity ⁴⁹ | ⁵⁰ 238.95

Assessment Rates

⁴⁷ As noted above these companies comprise the Yingli Single Entity.

⁴⁸ In the investigation in this proceeding, the Department treated Changzhou Trina Solar Energy Co., Ltd. and Trina Solar (Changzhou) Science & Technology Co., Ltd. as a single entity. See Crystalline Silicon Photovoltaic Cells, Whether or Not Assembled into Modules, from the People's Republic of China: Final Determination of Sales at Less Than Fair Value, and Affirmative Final Determination of Critical Circumstances, in Part, 77 FR 63791 (October 17, 2012). Because no party has provided information on the record of the review contradicting this determination, the Department has continued to treat these companies as a single entity for purposes of this review.

⁴⁹ The PRC-wide entity includes the following companies: (1) Shanghai Suntech; (2) Wuxi Sunshine; (3) Changzhou NESL Solartech Co., Ltd.; (4) CSG PVTech Co., Ltd.; (5) Era Solar Co., Ltd.; (6) Innovosolar; (7) Jiangsu Sunlink PV Technology Co., Ltd.; (8) Jiawei Solarchina Co., Ltd.; (9) Jinko Solar Co., Ltd.; (10) LDK Solar Hi-tech (Suzhou) Co., Ltd.; (11) Leye Photovoltaic Science Tech.; (12) Magi Solar Technology; (13) Ningbo ETDZ Holdings, Ltd.; (14) ReneSola; (15) Shanghai Machinery Complete Equipment (Group) Corp., Ltd.; (16) Shenglong PV-Tech; (17) Solarbest Energy-Tech (Zhejiang) Co., Ltd.; (18) Suzhou Shenglong PV-TECH Co., Ltd.; (19) Zhejiang Shuqimeng Photovoltaic Technology Co., Ltd.; (20) Zhejiang Xinshun Guangfu Science and Technology Co., Ltd.; (21) Zhejiang ZG-Cells Co., Ltd.; (22) Zhiheng Solar Inc.; and (23) LDK Hi-Tech (Nanchang Co., Ltd. In addition, the PRC-wide entity includes the companies listed in Appendix II of the notice Crystalline Silicon Photovoltaic Cells, Whether or Not Assembled Into Modules From the People's Republic of China: Amended Partial Rescission of Antidumping Duty Administrative Review, 79 FR 43713 (July 28, 2014).

⁵⁰ This PRC-wide entity rate equals the PRC-wide entity rate of 249.96% adjusted for export subsidies and estimated domestic subsidy pass-through.

The Department will determine, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where the respondent reported reliable entered values, the Department calculated importer- (or customer)-specific ad valorem rates by aggregating the dumping margins calculated for all U.S. sales to the importer- (or customer) and dividing this amount by the total entered value of the sales to the importer- (or customer).⁵¹ Where the Department calculated an importer- (or customer)-specific weighted-average dumping margin by dividing the total amount of dumping for reviewed sales to the importer- (or customer) by the total sales quantity associated with those transactions, the Department will direct CBP to assess importer- (or customer)-specific assessment rates based on the resulting per-unit rates.⁵² Where an importer- (or customer)- specific ad valorem or per-unit rate is greater than de minimis, the Department will instruct CBP to collect the appropriate duties at the time of liquidation. Where either the respondent's weighted average dumping margin is zero or de minimis, or an importer (or customer-) specific ad valorem or per-unit rate is zero or de minimis, the Department will instruct CBP to liquidate appropriate entries without regard to antidumping duties.⁵³

⁵¹ See 19 CFR 351.212(b)(1).

⁵² Id.

⁵³ See Antidumping Proceedings: Calculation of the Weighted-Average Dumping Margin and Assessment Rate in Certain Antidumping Duty Proceedings; Final Modification, 77 FR 8101, 8103 (February 14, 2012).

On October 24, 2011, the Department announced a refinement to its assessment practice in NME antidumping duty cases.⁵⁴ Pursuant to this refinement in practice, for merchandise that was not reported in the U.S. sales databases submitted by an exporter individually examined during this review, but that entered under the case number of that exporter (i.e., at the individually-examined exporter's cash deposit rate), the Department will instruct CBP to liquidate such entries at the PRC-wide rate, as adjusted for export subsidies and estimated domestic subsidy pass-through. Additionally, pursuant to this refinement, if the Department determines that an exporter under review had no shipments of the subject merchandise, any suspended entries that entered under that exporter's case number will be liquidated at the PRC-wide rate, as adjusted for export subsidies and estimated domestic subsidy pass-through.

⁵⁴ See Non-Market Economy Antidumping Proceedings: Assessment of Antidumping Duties, 76 FR 65694 (October 24, 2011), for a full discussion of this practice.

Cash Deposit Requirements

The following cash deposit requirements will be effective upon publication of the final results of this administrative review for shipments of the subject merchandise from the PRC entered, or withdrawn from warehouse, for consumption on or after the publication date of this notice in the Federal Register, as provided by section 751(a)(2)(C) of the Act: (1) For the exporters listed above, the cash deposit rate will be the rate listed for each exporter in the table in the “Final Results” section of this notice; (2) for previously investigated PRC and non-PRC exporters that received a separate rate in a prior segment of this proceeding, the cash deposit rate will continue to be the existing exporter-specific rate; (3) for all PRC exporters of subject merchandise that have not been found to be entitled to a separate rate, the cash deposit rate will be the rate previously established for the PRC-wide entity; and (4) for all non-PRC exporters of subject merchandise which have not received their own rate, the cash deposit rate will be the rate applicable to the PRC exporter that supplied that non-PRC exporter. These deposit requirements, when imposed, shall remain in effect until further notice.

Disclosure

We intend to disclose the calculations performed for these final results of review within five days of the date of publication of this notice in the Federal Register in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties has occurred and the subsequent assessment of double antidumping duties.

Administrative Protective Order (“APO”)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these results of administrative review and publishing notice in accordance with sections 751(a)(1) and 777(i) of the Act.

Dated: July 7, 2015.
Paul Piquado,
Assistant Secretary for Enforcement and Compliance.

Appendix—Issues and Decision Memorandum

Summary

Background

Scope of the Order

Treatment of Wuxi Suntech, Luoyang Suntech, Shanghai Suntech, and Wuxi Sunshine

Adjustment Under Section 777A(f) of the Act for Wuxi Suntech

Discussion of the Issues

Comment 1. Rescission of the Reviews of JingAo Solar Co., Ltd. and Shanghai JA Solar PV Technology Co., Ltd.

Comment 2. Treatment of ERA Solar Co., Ltd.

Comment 3. PRC-Wide Entity Rate

Comment 4. Assessment of Entries Made Prior to the International Trade Commission's Final Determination

Comment 5. Treatment of Jiangsu Sunlink PV Technology Co., Ltd.

Comment 6. Treatment of CSG PVTech Co., Ltd.

Comment 7. Treatment of Leye Photovoltaic Science & Technology Co. Ltd.

Comment 8. Rescission of Review of LDK Solar Hi-Tech (Nanchang) Co., Ltd.

Comment 9. Whether to Apply Adverse Facts Available (“AFA”) to Two Unreported Yingli Sales

Comment 10. Unreported FOPs by Suppliers and Tollers

Comment 11. Surrogate Value for Cutting Wire

Comment 12. Surrogate Value for Aluminum-Silver Paste

Comment 13. Surrogate Value for Silver Paste

Comment 14. Surrogate Value for Unclassified Stores

Comment 15. Ocean Freight

Comment 16. Brokerage and Handling

Comment 17. Labor Calculation

Comment 18. Surrogate Value for Natural Gas

Comment 19. Surrogate Value for Nitric Acid

Comment 20. Surrogate Value for Hydrofluoric Acid

Comment 21. Application of Surrogate Marine Insurance Rate

Comment 22. Conversion Factor for Natural Gas

Comment 23. Movement Expenses for Yingli's EP Sale

Comment 24. Surrogate Value for Backsheet

Comment 25. Calculation of Surrogate Financial Profit Ratio

Comment 26. Gross Unit Price Adjustments

Comment 27. Surrogate Value for Wafers

Comment 28. Export Subsidy Adjustment

Comment 29. By-Product Offset for Broken Wafers

Comment 30. Surrogate Value for Quartz Crucibles

Comment 31. Surrogate Value for Junction Boxes

Comment 32. Differential Pricing

Comment 33. Surrogate Value for the Polysilicon Feedstock and Solar Cell Offsets

Comment 34. Surrogate Value for Semi-finished Polysilicon Ingots and Blocks

Comment 35. Surrogate Value for Aluminum Angle Keys

Comment 36. Surrogate Value for Aluminum Frames

Comment 37. Indirect Selling Expenses

Comment 38. Application of a By-Product Recovery Cap on Recycled Paste

Comment 39. Whether the Department Improperly Calculated the Partial AFA Rate Applied to Yingli

Comment 40. Whether to Exclude Certain Reported CEP Sales

Comment 41. Wuxi Suntech Separate Rate Status

Comment 42. The Department's Separate Rates Practice in AD Proceedings Involving the PRC

[FR Doc. 2015-17238 Filed 7-13-15; 8:45 am]

BILLING CODE 3510-DS-P